Proclamation 10390 of May 4, 2022

National Day of Prayer, 2022

By the President of the United States of America

A Proclamation

Throughout our history, prayer has been an anchor for countless Americans searching for strength and wisdom in times of struggle and sharing hope and gratitude in seasons of joy. In public reflections on life's many blessings and in quiet moments during life's most difficult trials, Americans of nearly every background and faith have turned to prayer for comfort and inspiration. Prayer is a sacred right protected by free speech and religious liberty enshrined in our Constitution, and it continues to lift our spirits as we navigate the challenges of our time.

On this day, we recognize the healing power of prayer, especially as we recover from the trauma and loss of the COVID-19 pandemic. Today we find ourselves in a moment of renewal—of lives saved, of new jobs created, and of new hope for rebuilding America. Today is also a moment of reflection when we are called to address some of the greatest challenges humanity has ever faced—saving our planet from the existential threat of climate change; responding to attacks on democracy at home and abroad; and living up to our Nation's promise of liberty, justice, and equality for all.

As the late President Dwight D. Eisenhower once said, “There is a need we all have in these days and times for some help which comes from outside ourselves.” Across our diverse and cherished beliefs, on this National Day of Prayer, no matter how or whether we pray, we are all called to look outside ourselves. Let us find in our hearts and prayers the determination to put aside our differences, come together, and truly see one another as fellow Americans.

The Congress, by Public Law 100-307, as amended, has called on the President to issue each year a proclamation designating the first Thursday in May as a “National Day of Prayer.”

NOW, THEREFORE, I, JOSEPH R. BIDEN JR., President of the United States of America, by virtue of the authority vested in me by the Constitution and the laws of the United States, do hereby proclaim May 5, 2022, as a National Day of Prayer. I call upon the citizens of our Nation to give thanks, in accordance with their own faiths and consciences, for our many freedoms and blessings, and I invite all people of faith to join me in asking for God's continued guidance, mercy, and protection.

IN WITNESS WHEREOF, I have hereunto set my hand this fourth day of May, in the year of our Lord two thousand twenty-two, and of the Independence of the United States of America the two hundred and forty-sixth.

[FR Doc. 2022-10075

Filed 5-6-22; 11:15 am]

Billing code 3395-F2-P